DEPARTMENT OF JUSTICE

National Institute of Corrections

Solicitation for a Cooperative Agreement—Children With Parents in Jail

AGENCY: National Institute of Corrections, Department of Justice.

ACTION: Solicitation for a Cooperative Agreement.

SUMMARY: This is one of five solicitations to address issues of children who have experienced parental incarceration. A total of $500,000 is available for two awards, one for $30,000 per year and one for $135,000 per year for a period of 3 years. The purpose of this solicitation is to provide a three year demonstration program for children whose primary parent is held in jail.

Background: The Department of Justice (DOJ), National Institute of Corrections (NIC), announces the availability of funds for fiscal year 2001 for five (5) solicitations to fund projects for children of incarcerated or formerly incarcerated parents. Congress appropriated $4 million to NIC “to work with cooperative agreements to fund private sector or not for profit groups that have effective, tested programs to help children of prisoners”. These cooperative agreements may be for up to three (3) years.

To prepare for this solicitation, NIC convened a Children of Prisoners planning meeting, inviting federal and state government, association, academic and private provider representatives. The goals of the two-day meeting were to: (1) Identify the problems and issues that children of prisoners or former prisoners face that put them at risk of potential future delinquency; (2) identify the problems and greatest needs of incarcerated parents/caretakers of these children; (3) identify and describe evidence-based and promising approaches to support these children and prevent their future delinquency; and (4) describe and prioritize how the newly appropriated funds can best address these issues.

Based on this meeting, NIC staff is announcing the following five (5) solicitations:

1. Resource Center—Up to $1 million for 36 months will be awarded to one (1) organization or group (joint applications are encouraged) to provide training and technical assistance, develop a plan for a public awareness program, support and manage an advisory group, and develop and conduct, as appropriate, process and outcome evaluations with awardees.

2. Planning Awards—Three (3), 18-month planning awards, of up to $100,000 each will be made to three private or non profit agencies in three different jurisdictions. The purpose of this solicitation is to assist three (3) jurisdictions to develop a comprehensive plan for the delivery of services to a clearly identified target population of children/youth who have been traumatized or damaged as a result of parental incarceration. These awards will be given to agencies that create or build on an existing collaborative planning process. All applications must include the appropriate Federal, State and/or local agency/agencies.

3. Awards to Communities with High Crime and High Incarceration Rates—Up to $1.675 million will be awarded to three (3) to five (5) private and/or non profit agencies working with children having in communities with high crime and incarceration rates. The purpose is to develop three-year demonstration programs. Up to one year will be spent planning the programs, the second and third years will focus on program implementation and evaluation.

4. Children of Parents in Prison—Three-year demonstration awards to two (2) agencies that work with children of parents held in State or Federal prisons. A total of $500,000 will be available for these awards. One award will for $30,000 per year and one will be for $135,000 a year. Planning must be an integral part of the application.

5. Children of Parents in Jail—(This announcement) Three-year demonstration awards to two (2) agencies that work with children of parents in jail. A total of $500,000 will be available for these awards. One award will be for $30,000 per year and one will be for $135,000 a year. Planning must be an integral part of the application.

Applicants may apply for more than one solicitation.

Information About This Population: According to Senate Report 106-404 from the FY2001 DOJ appropriations bill, “* * * children of prisoners are six times more likely than other children to be incarcerated at some point in their lives * * * ”. Yet, little research and few programs have targeted children of offenders.

The number of men and women confined in prisons and jails has increased in the 1990s from just under 1.2 million to 1.9 million. The Bureau of Justice Statistics in its August 2000 Bulletin, “Incarcerated Parents and Their Children”, states that 721,500 State and Federal inmates are parents to nearly 1.5 million children under the age of 18, an increase of 500,000 children in the past 8 years. This means that 2.1% of all children in the United States have a parent in State or Federal prison. The number of children of parents in detention is not known, but half of all youth in custody have a parent or close relative who has been in jail.

Prior to prison admission, 64% of the women and 44% of the men lived with their children. Once Incarcerated, 90% of the men indicated that at least one child lived with his/her mother; 28% of the women said the father was the child's care giver. Once in five of these children was under 5 years of age, and the majority were less than 10 years old. Black children were nearly 9 times more likely to have a parent in prison than white children, and Hispanic children were 3 times more likely than white children to have an imprisoned parent.

While the number of fathers in prison far outweighs the number of mothers, it is mostly the mothers who were primary care givers before incarceration. When fathers are incarcerated, the care giver usually becomes the mother; when the mother is confined, the care giver often becomes the child's grandparent or other relative. Three of four parents in State prisons reported a prior conviction compared to one out of three in Federal prisons. Many children, then, have experienced more than one parental separation.

Parental arrest and confinement lead to stress, trauma, stigmatization and separation problems for the children. These problems are coupled with existing problems that include poverty, violence, parental substance abuse, high crime environments, intrafamily abuse, abuse and neglect, multiple care givers and/or prior separations. As a result, these children often exhibit a broad variety of behavioral, emotional, health and educational problems that are compounded by the pain of separation.

Denise Johnston from the Center for Children of Incarcerated Parents in California found that early childhood (between the ages of 2-6) may be the most damaging time for parent-child separation as the child remembers the trauma but cannot adjust to it without help. For those who do not receive assistance or who cannot process the separation for themselves, these children's behaviors can become increasingly maladaptive as they grow up, leading to strong negative feelings about the criminal justice and welfare systems, delinquency, poor school performance and other antisocial behaviors.

There are a handful of programs around the country that work with these children. The Child Welfare League of America has published, “Working with Children and Families Separated by Incarceration”, a handbook for child welfare agencies and staff. There is also a major initiative funded by the U.S. Department of Health and Human Services, the goals of which are to: (1) Develop a research and practice baseline on the effects of incarceration on prisoners and their children, families and communities; (2) document the intersection of populations within the criminal justice system and populations served by HHS programs; (3) determine unmet health and human services needs of offenders and their families left behind in the community; and (4) ensure that HHS takes into account the effects of incarceration on the children and families of inmates. HHS has commissioned a literature review and nine papers to explore what is known and what is knowable about these issues.

Statement of Principles: NIC requires that all proposals will:

1. Be child focused as the goal is to help the child becomes stable and self assured with a strong, positive sense of self.

2. Explain which stage(s) of child development will be addressed. Programs will focus on infancy, early or middle childhood, and/or early or late adolescence.

3. Ensure that programs have a sound theoretical basis.

4. Incorporate what is known about the crisis issues around separation of the child from his/her parent.

5. Improve the child/family relationship, where appropriate, by creating a family-friendly planning environment and subsequent program delivery.

6. Add to the current limited body of research on these children.

7. Include a “collaborative” planning group that will continue into the service delivery phase. The “collaborative” will include the lead agency, appropriate governmental agencies, and others as appropriate, such as private providers, advocacy groups, academic institutions, and public schools.

Resource Assistance: Once an award has been made for the Resource Center solicitation, awardees will receive training and technical assistance, as needed, from Resource Center staff. The length and scope of this assistance will depend on the awardees' specific interests. The Resource Center will also provide assistance in developing and implementing the outcome evaluations that will accompany each cooperative agreement and will budget for this assistance. The Resource Center will be responsible for developing a data collection plan for the outcome evaluations. Awardees of this solicitation will be responsible for collecting the data. Awardees will also develop their own process evaluations.

Up to one year will be spent planning and developing services. If that is the case, the implementation phase (Years 2 and 3) will not be as detailed as the planning phase, but it will include an outline of what the collaborative hopes to achieve and how they hope to achieve it.

Goals and Objectives of This Solicitation: The twin goals of these awards are to: (1) Reduce the children's trauma, stigmatization and stress of separation caused by parental incarceration in jail of their primary parent, and (2) enhance opportunities for positive life experiences and outcomes for children/youth whose primary parent has experienced incarceration in jail. The parent may no longer be in jail to be eligible for services, but the original contact must have been made when he/she was incarcerated.

The following three objectives will be required: (1) Improve child-parent relationships, where appropriate; (2) approach the services from a child development perspective; and (3) demonstrate cultural sensitivity in program design and implementation. Additional objectives will include one or more of the following:

• Reduce violence, including family and community violence, maltreatment and other trauma, in children's lives.

• Develop education goals that measure academic/school success for children.

• Develop and implement a parenting education program.

• Develop a mentoring program.

• Provide wraparound services for children.

• Develop supportive relationships between child and primary care giver.

• Develop and implement strategies to positively integrate children into the community.

• Improve housing/living environment for the family and parental employment capabilities and opportunities within the community.

• Improve medical and mental health services for children.

• Assess existing community support for these children/youth.

If there are other objectives that are appropriate, include them in your proposal.

Application Requirements: Funds will be available to programs that currently work with children of jail inmates and/or to organizations looking to work with children of this population. If the program already works with offenders and their children, it should describe how these new services will be incorporated into the existing services. A plan and timeline for service delivery should be provided. If the program does not now work with offenders, applicants should describe the planning process and proposed implementation strategy.

Up to one year may be spent planning for service delivery. Depending on the funding level, applicants are encouraged to form a collaborative group of representatives of the community being served. This could include representatives from the jail, probation and/or parole, child welfare, housing, employment, education, medicine and mental health, advocacy groups and community service providers. Each agency's representative should have sufficient authority to make decisions for his/her respective agency. The purpose is to draw on the diverse expertise of many disciplines and professions to address these issues, reach consensus on the types of programs to be provided and minimize problems that might arise during implementation.

Applicants must:

1. Provide a statement of the problem to include, but not be limited to, identifying the target population; issues faced by children/youth separated from their primary parent; explaining the stages of child development and what is known about parental separation at different stages; describing the cultural diversity of the community; discussing what is known or needs to be learned about the effects of parental incarceration on children/youth, describing existing services, if any, and describing the perceived needs of the children/youth.

2. Define planning and service delivery goals and objectives within a continuum of services based on the developmental needs of children/youth.

3. Describe the planning process and service delivery as they relate to the goals and objectives. If the planning process is extensive, the specific service delivery plan will not be required as it will result from the planning process. In lieu of the service delivery plan, explain what the applicant hope sot achieve and how it will be achieved. If the applicant seeks to expand existing services, indicate the type(s) of program(s) to be included.

If there is an extensive planning process, the application will include the following.

Year 1 Planning

a. Prepare a list of collaborating agencies and/or types of agencies to be included and the reasons for their inclusion. Letters of support must be included from all governmental groups and at least half of the other collaborating agencies.

b. Present a management plan that includes the tasks of the planning group, resources needed, the roles and responsibilities of the lead agency and collaborating agencies, the experience and expertise of key staff, including resumes, and how staff will work with NIC and Resource Center staff.

c. Develop a timeline for completing the plan.

d. Developing and conducting a process evaluation.

e. Develop a budget and budget narrative, including funds for a process evaluation.

Years 2 and 3 Service Delivery Plan

a. Explain the theoretical basis for the implementation strategies selected that takes into account the stages of child/youth development.

b. Develop a multi-systemic approach to delivering services.

c. Develop a proposed project design.

d. Prepare a timeline for implementation.

e. Conduct a proposed outcome evaluation program with the assistance of the Resource Center.

f. Identify the proposed impact on the target population.

g. Include letters of support from senior jail staff.

h. Develop strategies for developing additional sources of revenue, both dollars and in-kind support, once Federal funds are no longer available.

5. If the proposal seeks only to incorporate services into existing jail programs, a lengthy planning process is not necessary. In this case, the following requirements will be included for all three years:

a. Describe the project design and how it will be incorporated into existing services. Include a discussion of services to children/youth who are of varying ages and may need age-specific services.

b. Provide letters of support from senior jail staff for the additional service(s).

c. Develop a timeline for implementation and evaluation.

d. Identify the proposed outcome(s) of the services.

6. Prepare a yearly and final project report.

7. Prepare a budget and budget narrative. The Year 1 budget will be detailed and the narrative the same; the budgets for Years 2 and 3 will be estimates.

8. Applications are limited to 25 typed, double space pages using a 12 point font, not including letters of support, resumes, other supporting documents and SF-424 forms. Provide 6 copies of the application, including one that is not bound. One unbound copy must be signed in blue ink by the agency administrator of chief executive officer.

Authority: Public Law 93-415.

Funds Available: A total of $500,000 will be available for two awards for 36 month projects. One award will for $30,000 per year and one will be for $135,000 per year. Awards will be made to private and/or non profit agencies working collaboratively with local jails or detention centers and communities. At this time, there is no assurance of additional funding in the future.

Deadline for Receipt of Applications: Applications must be received at the NIC offices by 4 p.m. EDT on August 2, 2001. They should be addressed to: Director, National Institute of Corrections, 320 First Street, NW, Room 5007, Washington, DC 20534. Hand delivered applications may be brought to 500 First Street, NW, Washington, DC 20534. The front desk will call Germaine Jefferson or Bobbi Tinsley at 202-307-3106 ext. 0 for pickup.

Addresses and Further Information: Requests for the application kit, which consists of copies of this announcement and the required forms, should be downloaded from the NIC website at http://www.nicic.org. Click on “Cooperative Agreements”.

All technical and/or programmatic questions concerning this announcement should be directed to Mary Whitaker at the above address or by calling 800-995-6423, extension 40378, or 202-514-0378 or by e-mail via mwhitaker@bop.gov.

All specific questions regarding the application process should be directed to Judy Evens, Cooperative Agreement Control Office, National Institute of Corrections, 320 First Street, NW, Room 5007, Washington, DC 20534 or by calling 800-995-6423, ext. 44222 or 202-307-3106, extension 44222 or by e-mail via jevens@bop.gov.

Eligible Applicants: Applicants will be restricted to private and not for profit agencies as government agencies are not eligible to apply for these funds. Appropriate government agencies, e.g., juvenile detention centers and probation agencies, jails, prisons, community based facilities, and private juvenile and adult correctional facilities, must be included in the planning process and will be required to submit letters of support.

Review Considerations: Applications will be reviewed by a three- to five-member team using a peer review process.

Number of Awards: Two (2).

NIC Application Number: NIC application number is 01K64. This number should appear as a reference line in the cover letter and also in box 11 of Standard Form 424. This number must also appear on the outside of the package in which the application arrives at NIC.

Catalog of Federal Domestic Assistance 16.602.
This application is not subject to Executive Order 12372.
Dated: June 18, 2001.
Morris L. Thigpen,
Director, National Institute of Corrections.

[FR Doc. 01-15692 Filed 6-21-01; 8:45 am]

BILLING CODE 4410-36-M